DEPARTMENT OF ENERGY

Federal Energy Regulatory Commission

[Project No. 2161-006 Wisconsin; Project Nos. 2192-008 and 2110-003 Wisconsin]

Rhinelander Paper Company; Consolidated Water Power; Notice of Availability of Draft Multiple Project Environmental Assessment

December 28, 2001.

In accordance with the National Environmental Policy Act of 1969 and the Federal Energy Regulatory Commission's (Commission) regulations, 18 CFR part 380 (Order No. 486,52 FR 47879), the Office of Energy Projects has reviewed the applications for license for the Rhinelander, Stevens Point, and Biron projects, located on the Wisconsin River, in Oneida, Portage, and Wood Counties, Wisconsin, and has prepared a Draft Multiple Project Environmental Assessment (DEA) for these projects. There are no federal lands occupied by the project works or located within the project boundaries.

The DEA contains the staff's analysis of the potential environmental effects of the project and concludes that licensing the projects, with appropriate environmental measures, would not constitute a major federal action that would significantly affect the quality of the human environment.

A copy of the DEA is on file with the Commission and is available for public inspection. The DEA may also be viewed on the web at http://www.ferc.gov using the “RIMS” link—select “Docket#” and follow the instructions (call 202-208-2222 for assistance).

Any comments should be filed within 45 days from the date of this notice and should be addressed to Linwood A. Watson, Jr., Acting Secretary, Federal Energy Regulatory Commission, 888 First Street, NE., Washington, DC 20426. Please affix the Project No. 2161, 2192, or 2110 to the comments. Comments may be filed electronically via the Internet in lieu of paper. See 18 CFR 385.2001(a)(1)(iii) and the instructions on the Commission's Web site under the “e-Filing” link.

For further information, contact Michael Spencer at 202-219-2846.

Linwood A. Watson, Jr.,
Acting Secretary.

[FR Doc. 02-176 Filed 1-2-02; 8:45 am]

BILLING CODE 6717-01-P